DEPARTMENT OF JUSTICE

Antitrust Division

Notice Pursuant to the National Cooperative Research and Production Act of 1993—XtremeSpectrum Inc.

Notice is hereby given that, on July 23, 2002, pursuant to Section 6(a) of the National Cooperative Research and Production Act of 1993, 15 U.S.C. 4301 et seq. (“the Act”), XtremeSpectrum Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are XtremeSpectrum Inc., Vienna, VA; and Motorola Inc., Schaumburg, IL. The nature and objectives of the venture are cooperative research to develop a Fireground Personnel Location & Communication System.

Constance K. Robinson,
Director of Operations, Antitrust Division.

[FR Doc. 02-20409 Filed 8-12-02; 8:45 am]

BILLING CODE 4410-11-M